DEPARTMENT OF ENERGY

Federal Energy Regulatory Commission

Combined Notice of Filings #1

Take notice that the Commission received the following electric corporate filings:

Docket Numbers: EC19-78-000.

Applicants: Noverco Inc., Valener Inc.

Description: Application for Authorization Under Section 203 of the Federal Power Act, et al. of Noverco Inc., et al.

Filed Date: 4/17/19.

Accession Number: 20190417-5101.

Comments Due: 5 p.m. ET 5/8/19.

Take notice that the Commission received the following electric rate filings:

Docket Numbers: ER19-1179-000.

Applicants: AES ES Gilbert, LLC.

Description: Second Supplement to March 4, 2019 AES ES Gilbert, LLC tariff filing.

Filed Date: 4/16/19.

Accession Number: 20190416-5132.

Comments Due: 5 p.m. ET 4/30/19.

Docket Numbers: ER19-1279-001.

Applicants: Messer Energy Services, Inc.

Description: Tariff Amendment: First Amendment to Notice of Succession to be effective 3/1/2019.

Filed Date: 4/16/19.

Accession Number: 20190416-5181.

Comments Due: 5 p.m. ET 5/7/19.

Docket Numbers: ER19-1582-000.

Applicants: DTE Electric Company.

Description: § 205(d) Rate Filing: Revised Wholesale Distribution Agreements to be effective 1/1/2019.

Filed Date: 4/16/19.

Accession Number: 20190416-5145.

Comments Due: 5 p.m. ET 5/7/19.

Docket Numbers: ER19-1583-000.

Applicants: PJM Interconnection, L.L.C.

Description: Tariff Cancellation: Notice of Cancellation of WMPA/ISA No. 4948; Queue No. AD1-053 to be effective 5/6/2019.

Filed Date: 4/16/19.

Accession Number: 20190416-5146.

Comments Due: 5 p.m. ET 5/7/19.

Docket Numbers: ER19-1584-000.

Applicants: Armadillo Flats Wind Project, LLC.

Description: Market-Based Triennial Review Filing: Armadillo Flats Wind Project, LLC Triennial Amend to Market-Based Rate Tarif to be effective 4/17/2019.

Filed Date: 4/16/19.

Accession Number: 20190416-5187.

Comments Due: 5 p.m. ET 5/7/19.

Docket Numbers: ER19-1585-000.

Applicants: Brady Interconnection, LLC.

Description: Market-Based Triennial Review Filing: Brady Interconnection, LLC Triennial Amendment to Market-Based Rate Tariff to be effective 4/17/2019.

Filed Date: 4/16/19.

Accession Number: 20190416-5188.

Comments Due: 5 p.m. ET 5/7/19.

Docket Numbers: ER19-1586-000.

Applicants: Brady Wind II, LLC.

Description: Market-Based Triennial Review Filing: Brady Wind II, LLC Triennial Amendment to Market-Based Rate Tariff to be effective 4/17/2019.

Filed Date: 4/16/19.

Accession Number: 20190416-5189.

Comments Due: 5 p.m. ET 5/7/19.

Docket Numbers: ER19-1587-000.

Applicants: Brady Wind, LLC.

Description: Market-Based Triennial Review Filing: Brady Wind, LLC Triennial Amendment to Market-Based Rate Tariff to be effective 4/17/2019.

Filed Date: 4/16/19.

Accession Number: 20190416-5190.

Comments Due: 5 p.m. ET 5/7/19.

Docket Numbers: ER19-1588-000.

Applicants: Breckinridge Wind Project, LLC.

Description: Market-Based Triennial Review Filing: Breckinridge Wind Project, LLC Triennial Amend to Market-Based Rate Tariff to be effective 4/17/2019.

Filed Date: 4/16/19.

Accession Number: 20190416-5191.

Comments Due: 5 p.m. ET 5/7/19.

Docket Numbers: ER19-1589-000.

Applicants: Cedar Bluff Wind, LLC.

Description: Market-Based Triennial Review Filing: Cedar Bluff Wind, LLC Triennial Amendment to Market-Based Rate Tariff to be effective 4/17/2019.

Filed Date: 4/16/19.

Accession Number: 20190416-5192.

Comments Due: 5 p.m. ET 5/7/19.

Docket Numbers: ER19-1590-000.

Applicants: Chaves County Solar, LLC.

Description: Market-Based Triennial Review Filing: Chaves County Solar, LLC Triennial Amendment to Market-Based Rate Tariff to be effective 4/17/2019.

Filed Date: 4/16/19.

Accession Number: 20190416-5193.

Comments Due: 5 p.m. ET 5/7/19.

Docket Numbers: ER19-1591-000.

Applicants: Cottonwood Wind Project, LLC.

Description: Market-Based Triennial Review Filing: Cottonwood Wind Project, LLC Amendment to Market-Based Rate Tariff to be effective 4/17/2019.

Filed Date: 4/16/19.

Accession Number: 20190416-5194.

Comments Due: 5 p.m. ET 5/7/19.

Docket Numbers: ER19-1592-000.

Applicants: Elk City Renewables II, LLC.

Description: Market-Based Triennial Review Filing: Elk City Renewables II, LLC Triennial Amentment to Market-Based Rate Tariff to be effective 4/17/2019.

Filed Date: 4/16/19.

Accession Number: 20190416-5195.

Comments Due: 5 p.m. ET 5/7/19.

Docket Numbers: ER19-1593-000.

Applicants: Kingman Wind Energy I, LLC.

Description: Market-Based Triennial Review Filing: Kingman Wind Energy I, LLC Triennial Amendment to Market-Based Rate Tariff to be effective 4/17/2019.

Filed Date: 4/16/19.

Accession Number: 20190416-5196.

Comments Due: 5 p.m. ET 5/7/19.

Docket Numbers: ER19-1594-000.

Applicants: Kingman Wind Energy II, LLC.

Description: Market-Based Triennial Review Filing: Kingman Wind Energy II, LLC Triennial Amendment to Market-Based Rate Tariff to be effective 4/17/2019.

Filed Date: 4/16/19.

Accession Number: 20190416-5197.

Comments Due: 5 p.m. ET 5/7/19.

Docket Numbers: ER19-1595-000.

Applicants: Pine River Wind Energy LLC.

Description: Tariff Cancellation: Notice of Cancellation of Market-Based Rate Tariff to be effective 6/17/2019.

Filed Date: 4/17/19.

Accession Number: 20190417-5042.

Comments Due: 5 p.m. ET 5/8/19.

Docket Numbers: ER19-1596-000.

Applicants: Midcontinent Independent System Operator, Inc., Duke Energy Indiana, LLC.

Description: § 205(d) Rate Filing: 2019-04-17_SA 3297 DEI-City of Logansport, Indiana IA to be effective 7/1/2019.

Filed Date: 4/17/19.

Accession Number: 20190417-5057.

Comments Due: 5 p.m. ET 5/8/19.

Docket Numbers: ER19-1597-000.

Applicants: AES Integrated Energy, LLC.

Description: Baseline eTariff Filing: AES Integrated Energy, LLC MBR Application to be effective 6/17/2019.

Filed Date: 4/17/19.

Accession Number: 20190417-5071.

Comments Due: 5 p.m. ET 5/8/19.

Docket Numbers: ER19-1598-000.

Applicants: Midcontinent Independent System Operator, Inc.

Description: § 205(d) Rate Filing: 2019-04-17_SA 3081 UMERC-ATC 1st Rev GIA (J704) to be effective 4/3/2019.

Filed Date: 4/17/19.

Accession Number: 20190417-5089.

Comments Due: 5 p.m. ET 5/8/19.

Docket Numbers: ER19-1599-000.

Applicants: PJM Interconnection, L.L.C.

Description: § 205(d) Rate Filing: Recollation Filing of sections Schedule 12—Appendices and Attachment H to be effective 4/18/2019.

Filed Date: 4/17/19.

Accession Number: 20190417-5129.

Comments Due: 5 p.m. ET 5/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2019.
Nathaniel J. Davis, Sr.,
Deputy Secretary.

[FR Doc. 2019-08112 Filed 4-22-19; 8:45 am]

BILLING CODE 6717-01-P